GENERAL SERVICES ADMINISTRATION

41 CFR Parts 301-53 and 301-74

[FTR Case 2003-304; FTR Amendment 2003-04]

RIN 3090-AH81

Federal Travel Regulation; Using Promotional Materials; Conference Planning

AGENCY: Office of Governmentwide Policy, General Services Administration (GSA).

ACTION: Final rule.

SUMMARY: This final rule amends the Federal Travel Regulation (FTR) by clarifying provisions regarding promotional benefits or materials that a conference planner receives from a travel service provider. The explanation of changes is addressed in the supplementary information below.

DATES: Effective Date: May 22, 2003.

FOR FURTHER INFORMATION CONTACT: The Regulatory Secretariat, Room 4035, GS Building, Washington, DC 20405, (202) 208-7312, for information pertaining to status or publication schedules. For clarification of content, contact Mr. Jim Harte, Office of Governmentwide Policy, Travel Management Policy, at (202) 501-0438. Please cite FTR case 2003-304, FTR Amendment 2003-04.

SUPPLEMENTARY INFORMATION:

A. Background

The changes in this final rule clarify existing sections of chapter 301 as follows:

1. In § 301-53.2 a new note is added.

2. Section 301-53.3 is revised.

3. Section 301-74.1 is revised by redesignating paragraph (d) as paragraph (e) and adding a new paragraph (d).

B. Executive Order 12866

This is not a significant regulatory action and, therefore, was not subject to review under section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 301-53 and 301-74

Government employees, Travel and transportation expenses.

Dated: May 12, 2003.
Stephen A. Perry,
Administrator of General Services.

For the reasons set forth in the preamble, under 5 U.S.C. 5701-5709, GSA amends 41 CFR parts 301-53 and 301-74 as set forth below:

PART 301-53—USING PROMOTIONAL MATERIALS AND FREQUENT TRAVELER PROGRAMS

1. The authority citation for 41 CFR part 301-53 continues to read as follows:

Authority: 5 U.S.C. 5707, 31 U.S.C. 1353.

2. Amend § 301-53.2 by adding a note to read as follows:

§ 301-53.2 What may I do with promotional benefits or materials I receive from a travel service provider?

* * * * *

Note to § 301-53.2: Promotional benefits or materials you receive from a travel service provider in connection with your planning and/or scheduling an official conference or other group travel (as opposed to performing official travel yourself) are considered property of the Government, and you may only accept the benefits or materials on behalf of the Federal Government (see § 301-74.1(d) of this chapter).

3. Revise § 301-53.3 to read as follows:

§ 301-53.3 How may I use promotional materials and frequent traveler benefits?

Promotional materials and frequent traveler benefits may be used as follows:

(a) You may use frequent traveler benefits earned on official travel to obtain travel services for a subsequent official travel assignment(s); however, you may also retain such benefits for your personal use, including upgrading to a higher class of service while on official travel.

(b) If you are offered such benefits as a result of your role as a conference planner or as a planner for other group travel, you may not retain such benefits for your personal use (see § 301-53.2 of this chapter). Rather, you may only accept such benefits on behalf of the Federal Government. Such accepted benefits may only be used for official Government business.

PART 301-74—CONFERENCE PLANNING

4. The authority citation for 41 CFR part 301-74 continues to read as follows:

Authority: 5 U.S.C. 5707.

5. Amend § 301-74.1 by redesignating paragraph (d) as paragraph (e) and adding a new paragraph (d) to read as follows:

§ 301-74.1 What policies must we follow in planning a conference?

* * * * *

(d) Ensure that the conference planner or designee does not retain for personal use any promotional benefits or materials received from a travel service provider as a result of booking the conference (see §§ 301-53.2 and 301-53.3 of this chapter); and

* * * * *

[FR Doc. 03-12896 Filed 5-21-03; 8:45 am]

BILLING CODE 6820-14-P